DEPARTMENT OF AGRICULTURE

Forest Service

Big Creek Resource Management Project, Flathead National Forest, Flathead County, Montana

AGENCY: Forest Service, USDA.

ACTION: Notice of intent to prepare an environmental impact statement.

SUMMARY: The Forest Service will prepare an environmental impact statement on a proposal to harvest trees; conduct prescribed burning; pre-commercially thin trees; reconstruct recreational trails and facilities; implement access management changes, including road reclamation; and conduct rehabilitation activities in aquatic habitat within the Big Creek watershed. The area is located 10 miles north of Columbia Falls, Montana.

The Forest Service is seeking further information and written comments from Federal, State and local agencies and other individuals or organizations who may be interested in or affected by the proposed actions. These comments will be used to prepare the draft EIS.

DATES: Comments concerning the scope of the analysis should be received in writing by April 4, 2000. The draft EIS is expected to be filed with the Environmental Protection Agency and made available for public review in September, 2000. No date has yet been determined for filing the final EIS.

The comment period on the draft environmental impact statement will be 45 days from the date of the Environmental Protection Agency publishes the notice of availability in the Federal Register.

ADDRESSES: Send written comments to David Ondov or Jimmy DeHerrera, Glacier View Ranger District, P.O. Box 290340, Hungry Horse, Montana, 59919.

FOR FURTHER INFORMATION CONTACT: David Ondov, Planning Team Leader, 406-387-3800.

SUPPLEMENTARY INFORMATION:

Nature and Scope of the Proposed Action

This proposal is necessary to address resource conditions related to wildlife, forest health, fisheries and watershed, recreation use, and other human uses within the 58,000 acre Big Creek watershed which are outside desired ranges. There is also the desire to maintain resource conditions across the landscape that are similar to what fire and other natural disturbance processes would have created historically.

The purpose of the proposal is to restore landscape composition, structure, and patterns to conditions similar to that expected under natural disturbance and succession regimes, and to restore fire as an important ecological process in this watershed; to reduce existing populations of selected invasive (noxious) weeds; to improve diversity of viewing opportunities into Glacier National Park and the east facing slope of Demers Ridge; to protect human and environmental values in this watershed from the effects of catastrophic fire; to improve the quality and quantity of ungulate winter and spring range forage; to improve grizzly bear security; to improve water quality and fisheries habitat; to reconstruct the Smokey Range Trail to an acceptable standard for visitor use; to provide a developed trailhead and visitor information at the northern terminus of the Demers Ridge Trail; and to relocate a portion of the Canyon Creek Snowmobile Trail onto a route that is suitable for grooming.

The proposed action includes approximately 3,700 acres of vegetation treatment (fuels reduction through slashing or tree thinning, prescribed burning, tree harvest along with associated fuels treatments and reforestation activities, and pre-commercial thinning), 70 miles of road reclamation and yearlong closure of other roads, placement of large woody debris in streams, stabilization or removal of several log jams in streams, review and rehabilitation of old skid roads on 20-25 acres, repair of 7 streamside slumps, reconstruction of a trail, construction of a new trailhead facility, and improvement and relocation of 6 miles of a groomed snowmobile trail system.

This EIS will tier to the Flathead National Forest Land and Resource Management Plan (LRMP) and EIS of January, 1986, and its subsequent amendments, which provide overall guidance of all land management activities on the Flathead National Forest.

Decision To Be Made

Should the Forest Service implement the proposed action or any action to meet the purpose and need established for the project, or defer any action at this time within the Big Creek watershed? The deciding official for the project is Jimmy DeHerrera, District Ranger, Hungry Horse/Glacier View Ranger Districts, Flathead National Forest.

Preliminary Issue and Alternatives

Preliminary scoping for the Big Creek project was conducted in November, 1999, through an open house and a field trip. The purpose of these public forums was to introduce a preliminary proposal which could be refined based on public comment. A public mailing is planned at the same time this notice of intent is published in the Federal Register to present the refined proposed action and purpose and need for the project. Based on public and internal comments, the following issues have emerged:

1. Economic feasibility of some proposed vegetation treatments.

2. Aquatic effects from vegetation treatments.

3. Sediment effect from road reclamation.

4. Effects of road management changes on human access and use of the area.

The interdisciplinary team has not yet developed any alternatives to the proposed action that respond to these issues.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points).

Dated: February 23, 2000.
Jimmy DeHerrera,
District Ranger.

[FR Doc. 00-4878 Filed 2-29-00; 8:45 am]

BILLING CODE 3410-11-M